DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | +Elevation in feet (NGVD) *Elevation in feet (NAVD) #Depth in feet above ground modified | Communities affected
Athens—Clark County, Georgia
Docket No.: FEMA-B-7463
Brooklyn Creek Tributary A | At the confluence with Brooklyn Creek | *697 | Athens—Clark County.
| Approximately 40 feet upstream of the confluence with Brooklyn Creek | *697 |
McNutt Creek | At the confluence with Middle Oconee River | *558 | Athens—Clark County/
| Approximately 1,230 feet downstream of U.S. Highway 441/U.S. Highway 129/State Highway 15 and Macon Highway | *559 |
Trail Creek | At the confluence with North Oconee River | *615 | Athens—Clark County.
| Approximately 550 feet downstream of Broad Street | *615 |
Tributary A-1 | At the confluence with Tributary A | *659 | Athens—Clark County.
| Approximately 100 feet upstream of the confluence with Tributary A | *659 |
Tributary A-2 | At the confluence with Tributary A | *695 | Athens—Clark County.
| Approximately 260 feet upstream of the confluence with Tributary A | *698 |
Tributary H | At the confluence with Big Creek | *607 | Athens—Clark County.
| Approximately 870 feet upstream of the confluence with Big Creek | *609 |
#Depth in feet above ground.
*National Geodetic Vertical Datum.
+North American Vertical Datum.
¹ The existing elevation data included on the effective FIRM is printed in the elevation datum of the National Geodetic Vertical Datum of 1929 (NGVD29). In order to convert this printed elevation data from the NGVD29 datum to the NAVD88 datum, please subtract 0.194 feet.
ADDRESSES:
Maps are available for inspection at the Athens-Clark County Public Works Department, 120 West Dougherty Street, Athens, Georgia.
Send comments to The Honorable Heidi Davison, Mayor, City of Athens-Clark County, 301 College Avenue, Athens, Georgia 30601.
Bibb County, Georgia (Unincorporated Areas)
Docket No.: FEMA-B-7463
Walnut Creek | Approximately 400 feet upstream of Interstate Highway 16 | *299 | Bibb County (Unincorporated Areas).
| Just downstream of the Norfolk Southern Railway | *300 |
#Depth in feet above ground.
*National Geodetic Vertical Datum.
+North American Vertical Datum.
¹ The existing elevation data included on the effective FIRM is printed in the elevation datum of the National Geodetic Vertical Datum of 1929 (NGVD29). In order to convert this printed elevation data from the NGVD29 datum to the NAVD88 datum, please subtract 0.4 feet.
ADDRESSES:
Maps are available for inspection at the Bibb County Engineering Office, 780 Third Street, Macon, Georgia.
Send comments to The Honorable Charles Bishop, Chairman, Bibb County Board of Commissioners, 601 Mulberry Street, Macon, Georgia 31201.

(Catalog of Federal Domestic Assistance No. 83.100, “Flood Insurance.”)

Dated: October 6, 2006.
David I. Maurstad,
Director, Mitigation Division, Federal Emergency Management Agency, Department of Homeland Security.

[FR Doc. E6-17260 Filed 10-16-06; 8:45 am]

BILLING CODE 9110-12-P